Proclamation 8953 of March 29, 2013

Cesar Chavez Day, 2013

By the President of the United States of America

A Proclamation

Every year, Americans all across our country pause on March 31 to remember a man who made justice his life's calling. Growing up the son of migrant farm workers who lost everything in the Great Depression, Cesar Chavez knew hard work and hardship from an early age. He labored long hours for little pay, taking odd jobs to help his family get by and forgoing a formal education to follow the crop cycles. But where others might have given up or given in, Cesar Chavez never lost hope in the power of opportunity. He lived each day by a belief as old as America itself—the idea that with courage and determination, any of us can reach beyond our circumstances and leave our children something better.

More than anything, we remember Cesar Chavez for lending voice to the voiceless. When no one seemed to care about the invisible farm workers who picked our Nation's food, beset by poverty and cheated by growers, a courageous man dedicated to dignity stood up and spoke out. Alongside Dolores Huerta and fellow organizers, he rallied a generation of workers around “La Causa,” marching and fasting and boycotting for fair pay and protections on the job. They fought through decades of setbacks and fierce resistance. But through every trial, Cesar Chavez refused to curb his ambitions or scale back his hope. Step by step, march by march, he helped lead a community of farm workers to make the change they sought.

Cesar Chavez's legacy lives on at Nuestra Señora Reina de la Paz, his home and workplace, which I was proud to designate a National Monument last October. It also lives on in those who remember his central teaching: that when workers are treated fairly and humanely, our country grows more just, opportunity becomes more equal, and all of us do better. Because even with the strides we have made, we know there is more left to do when working men and women toil in poverty without adequate protections or simple respect. We know there is more to do when our broken immigration system forces workers into a shadow economy where companies can ignore labor laws and undermine businesses following the rules. Fixing those problems means securing what Cesar Chavez fought for at La Paz. It means taking on injustice, making sure hard work is rewarded, and bringing more Americans into a rising middle class.

In 1966, when Cesar Chavez was struggling to bring attention to his cause, he received a telegram from Dr. Martin Luther King, Jr. “As brothers in the fight for equality, I extend the hand of fellowship and goodwill,” he wrote. “We are with you in spirit and in determination that our dreams for a better tomorrow will be realized.” It is a story that reminds us how here in America, we are bound together not by the colors of our skin or the languages we speak, but by the values we share and the brighter future we seek for our children. So today, as we honor a man who risked everything to stand up for what he believed in, let us reflect on our common cause and recommit to moving forward together—as one Nation and one people.

NOW, THEREFORE, I, BARACK OBAMA, President of the United States of America, by virtue of the authority vested in me by the Constitution and the laws of the United States, do hereby proclaim March 31, 2013, as Cesar Chavez Day. I call upon all Americans to observe this day with appropriate service, community, and education programs to honor Cesar Chavez's enduring legacy.

IN WITNESS WHEREOF, I have hereunto set my hand this twenty-ninth day of March, in the year of our Lord two thousand thirteen, and of the Independence of the United States of America the two hundred and thirty-seventh.

[FR Doc. 2013-07925

Filed 4-3-13; 8:45 am]

Billing code 3295-F3